DEPARTMENT OF COMMERCE

National Oceanic and Atmospheric Administration

RIN 0648-XG800

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a webinar to collect comments on the Generic Amendment—Carryover of Unharvested Quota.

DATES: The meeting will convene via webinar on Monday, March 4, 2019, at 6 p.m. and will conclude no later than 9 p.m.

ADDRESSES: The meeting will be held via webinar.

Council address: Gulf of Mexico Fishery Management Council, 4107 W Spruce Street, Suite 200, Tampa, FL 33607; telephone: (813) 348-1630.

FOR FURTHER INFORMATION CONTACT: Ryan Rindone, Fishery Biologist, Gulf of Mexico Fishery Management Council; ryan.rindone@gulfcouncil.org, telephone: (813) 348-1630.

SUPPLEMENTARY INFORMATION: Council staff will brief the public on the purpose and need of the amendment. The Council is currently considering a provision to carry over the uncaught quota for applicable species to the following fishing year, given certain conditions. Council staff will also provide an overview of the actions and alternatives considered in the amendment, including the Council's preferred alternatives. Staff and Council member will be available to answer any questions, and the public will have the opportunity to provide testimony on the amendment and other related testimony.

The schedule is as follows: Monday, March 4, 2019; 6 p.m.-9 p.m.

The meeting will be broadcast via webinar. You may register for the webinar by visiting www.gulfcouncil.org and clicking on the meeting on the calendar. The agenda is subject to change, and the latest version along with other meeting materials will be posted on www.gulfcouncil.org as they become available.

Dated: February 11, 2019.
Tracey L. Thompson,
Acting Deputy Director, Office of Sustainable Fisheries, National Marine Fisheries Service.

[FR Doc. 2019-02322 Filed 2-13-19; 8:45 am]

BILLING CODE 3510-22-P